DEPARTMENT OF COMMERCE

Foreign-Trade Zones Board

[B-31-2019]

Foreign-Trade Zone 134—Chattanooga, Tennessee; Application for Production Authority; Wacker Polysilicon North America, LLC (Polysilicon); Charleston, Tennessee

An application has been submitted to the Foreign-Trade Zones (FTZ) Board by the Chattanooga Chamber Foundation, grantee of FTZ 134, requesting production authority on behalf of Wacker Polysilicon North America, LLC (Wacker), located in Charleston, Tennessee. The application conforming to the requirements of the regulations of the FTZ Board (15 CFR 400.23) was docketed on May 2, 2019.

Wacker's facility (700 employees, 564 acres) is located within Subzone 134B. The facility is used for the production of polysilicon. Production under FTZ procedures could exempt Wacker from customs duty payments on the foreign components used in export production. The company anticipates that some 90 percent of the plant's shipments will be exported. On its domestic sales, Wacker would be able to choose the duty rates during customs entry procedures that apply to hyperpure polysilicon (duty-free) for the foreign-status input noted below. Wacker would be able to avoid duty on foreign-status components which become scrap/waste. Customs duties also could possibly be deferred or reduced on foreign-status production equipment. The request indicates that the savings from FTZ procedures would help improve the plant's international competitiveness.

Material sourced from abroad (representing 10-20% of the value of the finished product) is silicon metal (5.3% duty rate). Wacker is requesting authority subject to a restriction prohibiting the admission of foreign status silicon metal subject to an antidumping or countervailing duty order.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is July 8, 2019. Rebuttal comments in response to material submitted during the foregoing period may be submitted during the subsequent 15-day period to July 23, 2019.

A copy of the application will be available for public inspection in the “Reading Room” section of the FTZ Board's website, which is accessible via www.trade.gov/ftz.

For further information, contact Elizabeth Whiteman at Elizabeth Whiteman@trade.gov or (202) 482-0473.

Dated: May 2, 2019.
Andrew McGilvray,
Executive Secretary.

[FR Doc. 2019-09446 Filed 5-7-19; 8:45 am]

BILLING CODE 3510-DS-P